DEPARTMENT OF THE INTERIOR

National Park Service

[NPS-WASO-NRNHL-12729; PPWOCRADI0, PCU00RP14.R50000]

National Register of Historic Places; Notification of Pending Nominations and Related Actions

Nominations for the following properties being considered for listing or related actions in the National Register were received by the National Park Service before March 30, 2013. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by May 9, 2013. Before including your address, phone number, email address, or other personal identifying information in your comment, you should be aware that your entire comment—including your personal identifying information—may be made publicly available at any time.

While you can ask us in your comment to withhold your personal identifying information from public review, we cannot guarantee that we will be able to do so.

Dated: April 2, 2013.
J. Paul Loether,
Chief, National Register of Historic Places/National Historic Landmarks Program.

GEORGIA

Coffee County

63rd Army Air Forces Contract Pilot School (Primary), 2700 S. Peterson Ave., Douglas, 13000270

Jones County

James, Lemuel and Mary House, 153 James Rd., James, 13000271

Thomas County

Hopkins, Judge Henry William and Francesca, House, 229 Remington Ave., Thomasville, 13000272

IOWA

Linn County

Sokol Gymnasium, 417 3rd St. SE., Cedar Rapids, 13000274

Wapello County

Administration Building, U.S. Naval Air Station Ottumwa, Terminal Ave., Ottumwa, 13000273

LOUISIANA

Ouachita Parish

Ouachita Coca-Cola Bottling Company, Inc.—Ouachita Candy Company, Inc., 215 Walnut St., Monroe, 13000275

NEBRASKA

Douglas County

Olson's Market, 6115 Maple St., Omaha, 13000276

TEXAS

Wood County

Carlock, Marcus DeWitt, House, 407 S. Main St., Winnsboro, 13000277

WASHINGTON

King County

1600 East John Street Apartments, 1600 E. John St., Seattle, 13000278

Chiarelli, James and Pat, House, 843 NE. 100th St., Seattle, 13000279

[FR Doc. 2013-09607 Filed 4-23-13; 8:45 am]

BILLING CODE 4312-51-P